DEPARTMENT OF HOMELAND SECURITY

Federal Emergency Management Agency

44 CFR Part 67

[Docket No. FEMA-B-7456]

Proposed Flood Elevation Determinations

AGENCY: Federal Emergency Management Agency (FEMA), Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Mitigation Division, Federal Emergency Management Agency, 500 C Street, SW., Washington, DC 20472, (202) 646-2903.

SUPPLEMENTARY INFORMATION: FEMA proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Federal Emergency Management Agency certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376, § 67.4.

2. The tables published under the authority of § 67.4 are proposed to be amended as follows:

State | City/town/county | Source of flooding | Location | *Elevation in feet (NGVD) +Elevation in feet (NAVD) #Depth in feet above ground: Effective | *Elevation in feet (NGVD) +Elevation in feet (NAVD) #Depth in feet above ground: Modified
Arizona | Pinal County (Unincorporated Areas), City of Casa Grande | Arizola Drain | Shallow Flooding Area—Between I-10/SR-84 Interchange to confluence with North Santa Cruz Wash | None | #1
ADDRESSES
City of Casa Grande:
Maps are available for inspection at: The City Hall 510 E. Florence Blvd., Casa Grande, AZ 85222.
Send comments to: The Honorable Chuck Walton, 510 E. Florence Blvd., Casa Grande, AZ 85222.
Arkansas | Columbia County (Uninc. Areas) | Nations Creek | Approximately 500 feet downstream from Nations Creek and Calhoun Road | None | +269
|  |  | Approximately 7,000 feet upstream from Nations Creek and Highway 82 | None | +285
|  | Barlow Branch | Approximately 2,500 feet downstream from Highway 82 and Barlow Branch | None | +259
|  |  | Approximately 1,200 feet downstream from Highway 371 and Barlow Branch | None | +267
|  | Tributary to Barlow Branch | Confluence of Barlow Branch and Tributary to Barlow Branch | None | +262
|  |  | Intersection of the Louisiana and Northwest Railway and Tributary to Barlow Branch | None | +277
|  | Tributary to Big Creek | Approximately 2,400 feet downstream from Height Street and Tributary to Big Creek | None | +258
|  |  | Approximately 2,900 feet upstream from the confluence of Big Creek and Tributary to Big Creek | None | +252
|  | Tanyard Branch | Approximately 600 feet downstream from Tanyard Branch and the Louisiana and Northwest Railway | None | +266
|  |  | Approximately 1,800 feet downstream from Tanyard Branch and the Louisiana and Northwest Railway | None | +264
+North American Vertical Datum 1988.
ADDRESSES
Unincorporated Areas of Columbia County:
Maps are available for inspection at the Columbia County Courthouse, Court #1 Square, Magnolia, AR 71753.
Send comments to The Honorable John C. Blair, Judge, Columbia County, Court #1 Square, Magnolia, AR 71753.
Arkansas | Union County (Uninc. Areas) | F Creek | Approximately at Highway 7 and F Creek | None | +133
|  |  | Confluence of F Creek and F Creek Tributary FC | None | +171
|  | Ouachita River | Approximately 1,700 feet Northwest of New Lock 8 and Ouachita River | None | +97
|  |  | Approximately at Ouachita River and Highway 167 | None | +100
|  | Ouachita River | Approximately at New Lock Road 6 | None | +91
|  |  | South end of Old Lock 6 Road | None | +91
|  | Boggy Creek | Approximately at Highway 82 and Boggy Creek | None | +186
|  |  | Approximately 1,200 feet downstream from E. Main Street and Boggy Creek | None | +213
|  | Lapile Creek | Approximately at Lapile Creek and Highway 82 | None | +103
|  |  | Approximately at Lapile Creek and Highway 275 | None | +107
|  | Loutre Creek | Confluence of Loutre Creek Tributary 2 and Loutre Creek Main Stem | None | +192
|  | Tributary 2 | Approximately 1,000 feet downstream from Loutre Creek Tribuatry 2 and Robert E. Lee Street | None | +203
|  | Loutre Creek Main Stem | Approximately at Loutre Creek Main Stem and Ouachita Railroad | None | +186
|  |  | Confluence of Loutre Creek Tributary 2 and Loutre Creek Main Stem | None | +192
+National American Vertical Datum 1988.
ADDRESSES
Union County:
Maps are available for inspection at Union County Courthouse, 101 N. Washington St., Ste 101, El Dorado, Arkansas 71730.
Send comments to The Honorable Bobby Edmonds, County Judge, Union County Courthouse, 101 N. Washington St., Ste 101, El Dorado, Arkansas 71730.
Colorado | Boulder County (Uninc. Areas) | Skunk Creek | Approximately 50 feet upstream of 30th Street Bridge | +5,313 | +5,312
|  |  | Approximately 520 feet upstream of 30th Street | +5,323 | +5,322
+North American Vertical Datum 1988.
ADDRESSES
City of Boulder:
Maps are available for inspection at Central Records Department, 1777 Broadway, Boulder, Colorado 80302.
Send comments to The Honorable William Toor, Mayor, City of Boulder, 1777 Broadway, 2nd Floor, P.O. Box 791, Boulder, Colorado 80306.
Colorado | Weld County (Uninc. Areas) | Cache la Poudre River | At confluence with South Platte River Just upstream of 115 Highway 85 | *4601 | *4601
|  |  | Approximately 400 feet downstream of County Road 62 | *4638 *4729 | *4639 *4728
*National Geodetic Vertical Datum 1929.
ADDRESSES
City of Greeley:
Maps are available at City of Greeley, Public Work Building, 1001 9th Street, Greeley, CO 80631.
Send comments to The Honorable Tom Selders, Mayor, City of Greeley, 1000 10th Street, Greeley, CO 80631.
Weld County (Unincorporated Areas):
Maps are available at City of Greeley, Public Work Building, 1001 9th Street, Greeley, CO 80631.
Send comments to The Honorable William Jerke, Chairman, Weld County Board of Commissioners, P.O. Box 758, Greeley, Colorado 80632.
Georgia | Paulding County (Uninc. Areas) | McClendon Creek | At the confluence with Tallapoosa River and Mud Creek | *1,132 | +1,133
|  |  | Approximately 300 feet upstream of confluence with Tallapoosa River and Mud Creek | *1,132 | +1,133
*National Geodetic Vertical Datum.
+National American Vertical Datum.
¹ The existing elevation data included on the effective FIRM is printed in the elevation datum of the National Geodetic Vertical Datum of 1929 (NGVD29). In order to convert this printed elevation data from the NGVD29 datum to the NAVD88 datum, please add 0.23 feet.
ADDRESSES
Unincorporated Areas of Paulding County:
Maps are available for inspection at the Paulding County Planning and Zoning Department, 25 Courthouse Square, Dallas, Georgia 30132.
Send Comments to The Honorable Jerry Shearin, Commissioner Chairman, 166 Confederate Avenue, Dallas, Georgia 30132.
Kentucky | Pike County (Uninc. Areas) | Ferguson Creek | At the confluence Ferguson Creek with Pikeville Pond | *671 | +676
| City of Pikeville |  | Approximately 100 feet upstream of confluence of Williams Branch | *851 | +853
|  | Harolds Branch | At the confluence Harolds Branch with Pikeville Pond | *672 | +678
|  |  | Approximately 3,020 feet upstream of Pikeville Pond | *704 | +705
| Pike County (Uninc. Areas) | Lower Chloe Creek | At the confluence Lower Chloe Creek with Pikeville Pond | *671 | +676
| City of Pikeville |  | Approximately 680 feet downstream of confluence of Peter Fork | *750 | +747
|  | Pikeville Pond | Approximately 3,160 feet downstream of confluence of Harolds Branch | *670 | +666
|  |  | At the confluence Pikeville Pond with Levisa Fork | *686 | +686
*National Geodetic Vertical Datum.
+National American Vertical Datum.
(Note: NGVD −.609' = NAVD).
ADDRESSES
Pike County:
Maps are available for inspection at 260 Hambley Boulevard, Pikeville, KY 41501.
Send comments to The Honorable Frank Justice, Mayor, City of Pikeville, 118 College Street, Pikeville, KY 41501.
South Dakota | City of Mt. Vernon, Davison County | Dry Run Creek | At 7th Street | None | +1400
|  |  | Approximately 300 feet upstream of West Railroad Street | None | +1412
|  | East Drainage | Approximately 400 feet upstream of Main Street | None | +1411
|  |  | At 397th Avenue | None | +1415
|  | Diversion | At intersection 397th Avenue and 253rd Street | None | +1405
|  |  | At Railroad Street | None | +1417
+North American Vertical Datum.
ADDRESSES
City of Mt. Vernon:
Maps are available for inspection at the Mount Vernon Community Center, 500 North Main Street, Mt. Vernon, South Dakota 57363.
Send comments to The Honorable Brad Seamer, Mayor, City of Mt. Vernon, 311 East Third Street, Mount Vernon, South Dakota 57363.
Wyoming | Teton County (Uninc. Areas) | Flat Creek | Just upstream of High School Road | *6113 | *6113
|  | Town of Jackson | Just upstream of U.S. Highway 26 | *6214 | *6214
|  | Spring Creek | Approximately 1400 feet downstream of Tribal Trail Road | *6126 | *6125
|  |  | Approximately 400 feet upstream of U.S Highway 22 | *6158 | *6158
*National Geodetic Vertical Datum.
Unincorporated Areas of Teton County:
Maps are available for inspection at the Teton County Administration Building, 200 South Willow, Jackson, Wyoming 83001.
Send comments to The Honorable Larry Jorgenson, Chairman, Teton County Board of Commissioners, Teton County Administration Building, 200 South Willow, Jackson, Wyoming 83001.
Town of Jackson:
Maps are available for inspection at Town Hall, 150 East Pearl Avenue, Jackson, Wyoming 83001.
Send comments to The Honorable Mark Barron, Mayor, Town of Jackson, P.O. Box 1687, Jackson, Wyoming 83001.

Flooding source(s) | Location of referenced elevation | *Elevation in feet (NGVD) +Elevation in feet (NAVD) #Depth in feet above ground ‸Frederick City Datum: Effective | *Elevation in feet (NGVD) +Elevation in feet (NAVD) #Depth in feet above ground ‸Frederick City Datum: Modified | Communities affected
Baldwin County, Alabama and Incorporated Areas
D'Olive Creek | Just upstream of Lake Forest Dam | +22 | +25 | City of Daphne.
| Just downstream of U.S. Highway 90 | +31 | +35
Tiawasee Creek | Confluence with D'Olive Creek at Lake Forest | +22 | +25 | City of Daphne.
| Approximately 1,500 feet upstream of Ridgewood Drive | +63 | +60
Styx River | Just downstream of Truck Route 17 (Brady Road) | +77 | +77 | Baldwin County (Uninc. Areas).
| Approximately 3,100 feet upstream of Pinegrove Road | +169 | +168
+North American Vertical Datum.
ADDRESSES
Unincorporated Areas of Baldwin County:
Maps are available for inspection at the Baldwin County Building Department, 201 East Section Street, Foley, Alabama 36535.
Send comments to David Bishop, Chairman, Baldwin County Commission, 312 Courthouse Square, Suite 12, Bay Minette, Alabama 36507.
City of Daphne:
Maps are available for inspection at the Department of Community Development, 2651 Equity Drive, Daphne, Alabama 36526.
Send comments to Mayor Fred Small, City of Daphne, P.O. Box 400, Daphne, Alabama 36526.
Gila County, Arizona and Incorporated Areas
Bar X Wash | Shallow Flooding—North side of Bar X Wash approximately 1059 feet above confluence with Tonto Creek at Roosevelt Lake to approximately 634 feet above confluence with Tonto Creek at Roosevelt Lake | None | #1 | Gila County (Unin. Areas).
| Shallow Flooding—North side of Bar X Wash approximately 1059 feet above confluence with Tonto Creek at Roosevelt Lake to approximately 634 feet above confluence with Tonto Creek at Roosevelt Lake | None | #1
| Shallow Flooding—Approximately 1.02 miles above confluence with Tonto Creek at Roosevelt Lake to approximately 1.01 miles above confluence with Roosevelt Lake | None | #2
Butcher Hook | Shallow Flooding—North side of Butcher Hook approximately 1772 feet above confluence with Tonto Creek at Roosevelt Lake to approximately 922 feet above confluence with Tonto Creek at Roosevelt Lake | None | #1 | Gila County (Uninc. Areas).
| Shallow Flooding—North side of Butcher Hook approximately 0.39 mile above confluence with Tonto Creek at Roosevelt Lake to approximately 1772 feet above confluence with Tonto Creek at Roosevelt Lake | None | #1
| Shallow Flooding—North side of Butcher Hook approximately 0.45 mile above confluence with Tonto Creek at Roosevelt Lake to approximately 0.39 feet above confluence with Tonto Creek at Roosevelt Lake | None | #1
| Shallow Flooding—North side of Butcher Hook approximately 1772 feet above confluence with Tonto Creek at Roosevelt Lake to approximately 1247 feet above confluence with Tonto Creek at Roosevelt Lake | None | #2
Chalk Springs Creek | Shallow Flooding—Approximately 1.25 miles above confluence with Tonto Creek at Roosevelt Lake to approximately 1.02 miles above confluence with Tonto Creek at Roosevelt Lake | None | #1 | Gila County (Uninc. Areas).
| Shallow Flooding—Approximately 1.01 miles above confluence with Tonto Creek at Roosevelt Lake to approximately 0.96 mile above confluence with Tonto Creek at Roosevelt Lake | None | #1
South Oak Creek | Shallow Flooding—Approximately 0.84 mile above confluence with Tonto Creek at Roosevelt Lake to approximately 0.99 mile above confluence with Tonto Creek at Roosevelt Lake | None | #1 | Gila County (Uninc. Areas).
Walnut Creek | Shallow Flooding—Approximately 0.52 mile above confluence with Tonto Creek at Roosevelt Lake to approximately 0.44 mile above confluence with Tonto Creek at Roosevelt Lake | None | #1 | Gila County (Uninc. Areas).
Bar X Wash | Approximately 645 feet upstream of confluence with Tonto Creek at Roosevelt Lake | None | +2237 | Gila County (Uninc. Areas).
| Approximately 182 feet west of State Route 188 | None | +2282
Butcher Hook | Approximately 920 feet upstream of confluence with Tonto Creek at Roosevelt Lake | None | +2242 | Gila County (Uninc. Areas).
| Approximately 517 feet west of State Route 188 | None | +2294
Chalk Springs Creek | Approximately 0.50 mile upstream of confluence with Tonto Creek at Roosevelt Lake | None | +2277 | Gila County (Uninc. Areas).
| Approximately 894 feet west of Earl Road | None | +2389
Haystack Butte | Approximately 0.54 mile upstream of confluence with Tonto Creek at Roosevelt Lake | None | +2308 | Gila County (Uninc. Areas).
| Approximately 675 feet west of Rio Salada Lane | None | +2416
Lambing Creek | Approximately 0.44 mile upstream of confluence with Tonto Creek at Roosevelt Lake | None | +2322 | Gila County (Uninc. Areas).
| Approximately 0.89 mile upstream of confluence with Tonto Creek at Roosevelt Lake | None | +2377
Landing Creek | Approximately 222 feet east of Shereeve Lane | None | +2284 | Gila County (Uninc. Areas).
| Approximately 846 feet west of State Route 188 | None | +2362
Park Creek | Approximately 526 feet upstream of confluence with Tonto Creek at Roosevelt Lake | None | +2312 | Gila County (Uninc. Areas).
| Approximately 289 feet west of State Route 188 | None | +2361
Reno Creek | Approximately 1455 feet upstream of confluence with Tonto Creek at Roosevelt Lake | None | +2319 | Gila County (Uninc. Areas).
| Approximately 757 feet west of State Route 188 | None | +2356
South Oak Creek | Approximately 0.44 mile upstream of confluence with Tonto Creek at Roosevelt Lake | None | +2221 | Gila County (Uninc. Areas).
| Approximately 1.00 mile upstream of confluence with Tonto Creek at Roosevelt Lake | None | +2288
Sycamore Creek | Approximately 0.84 mile upstream of confluence with Tonto Creek at Roosevelt Lake | None | +2224 | Gila County (Uninc. Areas).
| Approximately 490 feet west of State Route 188 | None | +2286
Sycamore Creek Split Flow | Approximately 0.48 mile upstream of confluence with Tonto Creek at Roosevelt Lake | None | +2213 | Gila County (Uninc. Areas).
| Approximately 0.65 mile upstream of confluence with Tonto Creek at Roosevelt Lake | None | +2222
Tonto Creek at Roosevelt Lake | Approximately 11.12 miles above Roosevelt Dam | None | +2171 | Gila County (Uninc. Areas).
| Approximately 2.2 miles upstream of Reno Creek | None | +2373
Walnut Creek | Approximately 1364 feet upstream of confluence with Tonto Creek at Roosevelt Lake | None | +2270 | Gila County (Uninc. Areas).
| Approximately 505 feet west of Walnut Springs Road | None | +2346
# Depth in feet above ground.
| + North American Vertical Datum.
ADDRESSES
Gila County (Unincorporated Areas):
Maps available for inspection at: 1400 E. Ash Street, Globe, AZ 85501 or 714 S. Beeline Highway, Suite 200, Payson, AZ 85541.
Send comments to The Honorable Jose Sanchez, Gila County Chairman of the Board of Supervisors, 1400 East Ash Street, Globe, AZ 85501, (928) 425-3231.
La Paz County, Arizona and Incorporated Areas
Arroyo La Paz | Approximately 200 feet above confluence with North Levee Channel | None | +288 | La Paz County (Uninc. Areas).
| Approximately 75 feet upstream of Parker-Poston Road | None | +306
Cinnabar Wash | Approximately 100 feet above confluence with Colorado River | None | +264 | La Paz County (Uninc. Areas).
| Approximately 1.00 miles above confluence with Colorado River | None | +326
Colorado River | Approximately 13.5 miles upstream of Adobe Lake | None | +202 | La Paz County (Uninc. Areas).
| Approximately 0.38 mile downstream of Parker Dam | None | +379 | Parker, Town of Colorado River Indian Reservation.
Ehrenberg Wash | Approximately 300 feet downstream of Parker-Poston Road | None | +282 | La Paz County (Uninc. Areas).
| Approximately 0.43 mile upstream of Parker-Poston Road | None | +332
| Approximately 115 feet above confluence with North Levee Channel | None | +280
Gonzales Wash | Approximately 50 feet upstream of Parker-Poston Road | None | +288
| Approximately 125 feet above confluence with South Levee Channel | None | +266 | La Paz County (Uninc. Areas).
Unnamed Stream 1 | Approximately 1,560 feet upstream of Parker-Poston Road | None | +302 | La Paz County (Uninc. Areas).
| Approximately 300 feet above confluence with South Levee Channel | None | +280 | La Paz County (Uninc. Areas).
Unnamed Stream 2 | Approximately 0.73 mile above confluence with South Levee Channel | None | +340
Unnamed Stream 3 | Approximately 225 feet above confluence with South Levee Channel | None | +282 | La Paz County (Uninc. Areas).
| Approximately 0.44 mile upstream of Parker-Poston Road | None | +334
Unnamed Stream 4 | Approximately 292 feet above confluence with North Levee Channel | None | +288 | La Paz County (Uninc. Areas).
| Approximately 856 feet upstream of Parker-Poston Road | None | +316
Shallow Flooding | West of Parker-Poston Road to South of Colorado River Indian Tribe | None | #2 | La Paz County (Uninc. Areas).
# Depth in feet above ground.
+ North American Vertical Datum.
ADDRESSES
La Paz County (Unincorporated Areas):
Maps available for inspection at: La Paz County Community Development, Dept. 1112, Joshua Avenue, Parker, Arizona 85344.
Send comments to The Honorable Eugene Fisher, 1108 Joshua Avenue, Parker, Arizona 85344.
Town of Parker:
Maps available for inspection at: Parker Town Hall, 1314 11th Street, Parker, AZ 85344.
Send comments to The Honorable Sam Heeringa, 1314 11th Street, Parker, AZ 85344.
Colorado River Indian Reservation:
Send comments to Mr. Grant Buma, Colorado River Indian Tribes, Water Resources, 2nd & Mohave Rd., Route 1, Box 23-B, Parker, AZ 85344.
Imperial County, California and Incorporated Areas
Amerosa Wash | Approximately 152 feet above confluence with Anza Ditch | None | +50 | Imperial County (Uninc. Areas).
| Approximately 2.75 miles above confluence with Anza Ditch | None | +153
Anza Ditch | Approximately 1694 feet downstream of Marina Drive | None | +224 | Imperial County (Uninc. Areas).
| Approximately 3.4 miles upstream of State Route 86 | None | +136
Arroyo Salada | Approximately 630 feet above confluence with Salton Sea | None | +223 | Imperial County (Uninc. Areas).
| Approximately 2.36 miles upstream of State Route 86 | None | +72
Colorado River | Approximately 10.6 miles downstream of Confluence with Gila River | None | +121 | Imperial County (Uninc. Areas).
| Approximately 1.65 miles upstream of Neighbors Boulevard | None | +243
Coolidge Springs Ditch | Approximately 447 feet upstream of confluence with Salton Sea | None | +225 | Imperial County (Uninc. Areas).
| Approximately 0.69 mile upstream of confluence with Coolidge Tributary | None | +14
Coolidge Tributary | Approximately 272 feet above confluence with Coolidge Springs Ditch | None | +192 | Imperial County (Uninc. Areas).
| Approximately 0.81 mile above confluence with Coolidge Springs Ditch | None | +97
Coral Wash | Approximately 314 feet above confluence with Palm Wash | None | +187 | Imperial County (Uninc. Areas).
| Approximately 2.79 miles upstream of State Route 86 | None | +72
Iberia Wash | Approximately 296 feet above confluence with Salton Sea | None | +222 | Imperial County (Uninc. Areas).
| Approximately 1.89 miles upstream of State Route 86 | None | +104
Incienso Ditch | Approximately 450 feet above confluence with Salton Sea | None | +221 | Imperial County (Uninc. Areas).
| Approximately 1.86 miles upstream of State Route 86 | None | +64
Gravel Wash | Approximately 439 feet above confluence with Salton Sea | None | +222 | Imperial County (Uninc. Areas).
| Approximately 2.32 miles upstream of State Route 86 | None | +51
Palm Wash | Approximately 46 feet above confluence with Salton Sea | None | +224 | Imperial County (Uninc. Areas).
| Approximately 3.86 mile upstream of State Route 86 | None | +150
Romney Ditch | Approximately 1382 feet downstream of State Route 86 | None | +211 | Imperial County (Uninc. Areas).
| Approximately 1517 feet upstream of State Route 86 | None | +157
Shoreline Ditch | Approximately 250 feet downstream of Thomas Avenue | None | +225 | Imperial County (Uninc. Areas).
| Approximately 0.50 mile upstream of Coolidge Springs Road | None | +94
Surprise Wash | Approximately 656 feet above confluence with Tule Wash | None | +187 | Imperial County (Uninc. Areas).
| Approximately 1.2 miles upstream of State Route 86 | None | +89
Surprise Wash Tributary | Approximately 500 feet above confluence with Surprise Wash | None | +151 | Imperial County (Uninc. Areas).
| Approximately 0.83 mile upstream of State Route 86 | None | +110
Surprise Wash Diversion | Approximately 1610 feet above confluence with Arroyo Salada | None | +102 | Imperial County (Uninc. Areas).
| Approximately 2.24 miles above confluence with Arroyo Salada | None | +37
Tesla Wash | Approximately 386 feet above confluence with Salton Sea | None | +222 | Imperial County (Uninc. Areas).
| Approximately 1.61 miles upstream of State Route 86 | None | +39
Tortif Ditch | Approximately 0.87 mile downstream of State Route 86 | None | +219 | Imperial County (Uninc. Areas).
| Approximately 1.92 miles upstream of State Route 86 | None | +78
Verbena Wash | Approximately 450 feet above confluence with Virgo Ditch | None | +186 | Imperial County (Uninc. Areas).
| Approximately 1.17 miles upstream of State Route 86 | None | +2
Virgo Ditch | Approximately 641 feet above confluence with Salton Sea | None | +222 | Imperial County (Uninc. Areas).
| Approximately 2.14 miles upstream of State Route 86 | None | +95
Zenas Wash | Approximately 637 feet above confluence with Arroyo Salada | None | +179 | Imperial County (Uninc. Areas).
| Approximately 0.59 mile upstream of State Route 86 | None | +88
Arroyo Salada | Shallow Flooding—Approximately 1.38 miles above confluence with Salton Sea to Salton Sea | None | #1 | Imperial County (Uninc. Areas).
Calyx Ditch | Shallow Flooding—State Route 86 to confluence with Salton Sea | None | #1 | Imperial County (Uninc. Areas).
| Shallow Flooding—150 feet upstream of State Route 86 to State Route 86 | None | #2
Farmosa Ditch | Shallow Flooding—State Route 86 to confluence with Salton Sea | None | #1 | Imperial County (Uninc. Areas).
Parosa Ditch | Shallow Flooding—State Route 86 to confluence with Salton Sea | None | #1 | Imperial County (Uninc. Areas).
| Shallow Flooding—150 feet upstream of State Route 86 to State Route 86 | None | #2
Salton Sea | West shoreline of Salton Sea from approximately 0.78 miles southeast of confluence with Arroyo Salada to approximately 0.66 miles north of confluence with Shoreline Ditch | None | +224 | Imperial County (Uninc. Areas).
Tonalee Ditch | Shallow Flooding—1,000 feet upstream of State Route 86 to confluence with Salton Sea | None | #1 | Imperial County (Uninc. Areas).
# Depth in feet above ground.
+ North American Vertical Datum.
ADDRESSES
Imperial County (Unincorporated Areas):
Maps available for inspection at: Imperial County Planning & Development Services Department; 801 West Main Street, El Centro, California 92243.
Send comments to The Honorable Mr. Gary Wyatt, County of Imperial, 940 West Main Street, El Centro, California 92243.
San Diego County, California and Incorporated Areas
Agua Hedionda Creek | Approximately 1,400 feet downstream of Melrose Drive | None | *308 | City of Vista.
| Approximately 200 feet downstream of confluence with Buena Creek | None |  | *353.
*National Geodetic Vertical Datum 1929.
ADDRESSES
City of Vista:
Maps are available for inspection at the City Hall, 600 Eucalyptus Avenue, Vista, CA 92084.
Send comments to The Honorable Morris Vance, Mayor, City of Vista, P.O. Box 1988, Vista, CA 92084.
Cherokee County, Georgia and Incorporated Areas
Tate Creek | Approximately 1,350 feet downstream of Yorkshire Drive | *894 | +897 | Cherokee County (Uninc. Areas).
| Approximately 4,900 feet upstream of Flood Retarding Structure No. 17 | *941 | +944
ADDRESSES
Cherokee County (Unincorporated Areas):
Maps are available for inspection at 130 East Main Street, Suite 106, Canton, Georgia.
City of Woodstock:
Maps are available for inspection at 103 Arnold Mill Road, Woodstock, Georgia.
Send comments to The Honorable Bill Dewrell, Mayor, City of Woodstock, 106 Rusk Street, Woodstock, Georgia 30188.
Lexington/Fayette County, Kentucky and Incorporated Areas
Bryant Tributary | Confluence with North Elkhorn Creek | None | +942.8 | Lexington/Fayette.
| At I-75 | None | +984.8
Bowman Mill Tributary | Confluence with South Elkhorn Creek | None | +890.0 | Lexington/Fayette.
| Approximately 880 feet upstream of Palomar Drive | None | +940.0
Cave Hill Tributary | Confluence with Bowman Mill Tributary | None | +901.9 | Lexington/Fayette.
| Approximately 370 feet upstream of the farm road culvert | None | +940.0
Southpoint Tributary | Confluence with West Hickman Creek | None | +892.0 | Lexington/Fayette.
| Approximately 2,800 feet upstream of Southpoint Drive | None | +947.1
Wolf Run Creek | Beacon Hill Road culvert | None | +921.8 | Lexington/Fayette.
| Approximately 300 feet upsteam of Nicholasville Road | None | +990.9 |
+ National American Vertical Datum 1988.
ADDRESSES
Lexington Fayette Urban County Government:
Maps are available for inspection at LFUCG—Division of Planning, 200 East Main Street, 10th Floor, Lexington, KY 40507 or LFUCG-Division of Engineering, 101 East Vine Street, 4th Floor, Lexington, KY 40507.
Send comments to The Honorable Teresa Ann Isaac, Mayor, Lexington Fayette Urban County Government, 200 East Main St., Lexington, KY 40507.
Frederick County, Maryland and Incorporated Areas
Ballenger Creek | Confluence with Monocacy River | None | +249 | Frederick County.
| Approximately 0.2 mile downstream of Mt. Phillip Road | None | +422
Bush Creek | Confluence with Monocacy River | None | +255 | Frederick County.
| Approximately 0.2 mile upstream of Green Valley Road | *403 | +413
Butterfly Branch (Tributary No. 116) | Confluence with Ballenger Creek | None | +307 | Frederick County.
| Approximately 0.3 mile upstream of Jefferson Pike | None | +388
Carroll Creek | Confluence with Monocacy River | ‸271 | +266 | Frederick County.
| Approximately 2.0 miles upstream of the confluence of Silver Spring Branch (Tributary No. 95) | None | +702
Claggett Run (Tributary No. 129) | Confluence with Rocky Fountain Run | *247 | +243 | Frederick County.
| Approximately 0.4 mile upstream of Fingerboard Road | *297 | +297
Clifford Branch (Tributary No. 87) | Confluence with Tuscarora Creek | None | +367 | Frederick County.
| Approximately 0.3 mile upstream of Hamburg Road | None | +644
Clifford Branch (Tributary No. 98) | Confluence with Rock Creek | None | +354 | Frederick County.
| Approximately 0.4 mile upstream of Mt. Phillip Road | None | +433
Detrick Branch (Tributary No. 9) | Confluence with Monocacy River | ‸273 | +268 | Frederick County.
| Approximately 0.1 mile upstream of N. Market Street | None | +286
Dublin Branch | Confluence with Glade Creek | *283 | +279 | Frederick County.
| Approximately 1.4 miles upstream of confluence with Glade Creek | None | +331
Edison Branch | Confluence with Carroll Creek | None | +328 | Frederick County.
| Downstream side of Christophers Crossing | None | *375
Glade Creek | Approximately 0.2 mile downstream of Devilbliss Bridge Road | *283 | +279 | Frederick County.
| Approximately 0.8 mile upstream of Glade Road | None | +359
Horsehead Run | Confluence with Rocky Fountain Run | *247 | +247 | Frederick County.
| Approximately 1.2 miles upstream of confluence with Rocky Fountain Run | *265 | +265
Israel Creek | Confluence with Monocacy River | None | +273 | Frederick County.
| Just downstream of Water Street | None | +298
King Branch (Tributary No. 118) | Confluence with Ballenger Creek | None | +271 | Frederick County.
| Just downstream of Arbor Road | None | +291
Linganore Creek | Confluence with Monocacy River | None | +264 | Frederick County.
| Just downstream of Gashouse Pike | None | +327
Little Tuscarora Creek | Confluence with Tuscarora Creek | None | +296 | Frederick County.
| 0.1 mile upstream of Yellow Springs Road | None | +509
Monocacy River | Confluence with Potomac River | None | +210 | Frederick County.
| 0.6 mile upstream of Devilbliss Bridge Road | None | +288
Park Branch (Tributary No. 8/99) | Confluence with Monocacy River | *271 | +267 | Frederick County.
| Downstream side of East Street | ‸283 | +286
Pike Branch (Tributary No. 117) | Confluence with Ballenger Creek | None | +277
| Just upstream of Ballenger Creek Road | None | +314
Rock Creek | Confluence with Carroll Creek | ‸308 | +310 | Frederick County.
| Just Downstream of Baltimore National Parkway (US 40) | *434 | +432
Rocky Fountain Run | Confluence with Monocacy River | *247 | +243 | Frederick County.
| 0.2 mile downstream of New Design Road | None | +310
Shookstown Creek (Tributary No. 96) | Confluence of Carroll Creek | None | +316 | Frederick County.
| Approximately 0.4 mile upstream of Oakmont Drive | *757 | *774
Silver Spring Branch (Tributary No. 95) | Confluence with Carroll Creek | None | +347 | Frederick County.
| Approximately 400 feet downstream of Edgewood Church Road | None | +716
Tributary No. 122 to Horsehead Run | Confluence with Horsehead Run | None | +265 | Frederick County.
| Approximately 1.1 miles upstream of confluence with Horsehead Run | None | +298
Tributary No. 123 to Horsehead Run | Confluence with Horsehead Run | None | +265 | Frederick County.
| Approximately 1.0 mile upstream of confluence with Horsehead Run | None | +310
Tributary No. 124 to Horsehead Run | Confluence with Horsehead Run | *262 | +264 | Frederick County.
| Approximately 0.1 mile upstream of Manor Woods Road | *279 | +284
Tributary No. 125 to Horsehead Run | Confluence with Horsehead Run | *254 | +253 | Frederick County.
| Approximately 0.4 mile upstream of confluence with Horsehead Run | *270 | +274
Tributary No. 126 to Tributary No. 125 to Horsehead Run | 0.4 mile upstream of outlet to Horsehead Run | *270 | +274 | Frederick County.
| Just downstream of New Design Road | *287 | +287
Tributary No. 127 to Rocky Fountain Run | Confluence with Rocky Fountain Run | *247 | +246 | Frederick County.
| Approximately 1.1 miles upstream of confluence with Rocky Fountain Run | *279 | +291 | Frederick County.
Tributary No. 128 to Rocky Fountain Run | Confluence with Rocky Fountain Run | *247 | +243
| Just downstream of Baltimore and Ohio Railroad | None | +279
Tributary No. 5 to Rock Creek | Confluence with Rock Creek | ‸325 | +328 | Frederick County.
| Approximately 0.1 mile upstream of West Patrick Street | None | +395
Tributary No. 6 to Carroll Creek | Confluence with Carroll Creek | ‸294 | +293 | Frederick County.
| Just downstream of Butterfly Lane | None | +410
Tributary No. 89 to Little Tuscarora Creek | Confluence with Little Tuscarora Creek | None | +314 | Frederick County.
| Just downstream of Springhill Drive | None | +359
Tributary to Glade Creek | Confluence with Glade Creek | None | +292 | Frederick County.
| Just downstream of Devilbliss Bridge Road | None | +334
Tributary to Tributary No. 89 to Little Tuscarora Creek | Confluence with Tributary No. 89 to Little Tuscarora Creek | None | +355 | Frederick County.
| Just upstream of Christophers Crossing | None | +402
Tuscarora Creek | Confluence with Monocacy River | *279 | +274 | Frederick County.
| Confluence of Clifford Branch | None | +367
Two Mile Run (Tributary No. 10/93) | Just downstream of Worman's Mill Court | None | +269 | Frederick County.
| Confluence with Monocacy River | ‸274 | +269 | Frederick County.
Worman's Run (Tributary No. 11) | Confluence with Monocacy River | ‸274 | +269 | Frederick County.
| Just Upstream of North Market Street | ‸274 | +269
* National Geodetic Vertical Datum 1929.
− North American Vertical Datum 1988.
+ Frederick City Datum.
ADDRESSES
Unincorporated Areas of Frederick County:
Maps are available for inspection at the Planning and Zoning Department, Winchester Hall, 12 East Church Street, Frederick, Maryland 21701.
Send comments to The Honorable Douglas Browning, County Manager, Frederick County, Winchester Hall, 12 East Church Street, Frederick, Maryland 21701.
City of Frederick:
Maps are available for inspection at the Engineering Department, City Hall, 101 North Court Street, Frederick, Maryland 21701.
Send comments to The Honorable Jennifer P. Dougherty, Mayor, City of Frederick, City Hall, 101 North Court Street, Frederick, Maryland 21701.
Town of Walkersville:
Maps are available for inspection at the Town Hall, 21 West Frederick Street, Walkersville, Maryland 21793.
Send comments to The Honorable Ralph Whitmore, Burgess, Town of Walkersville, Town Hall/P.O. Box 249, 21 West Frederick Street, Walkersville, Maryland 21793.
Washington County, Missouri and Incorporated Areas
Mine Breton Creek | Approximately 2,350 feet above confluence with Bates Creek | None | *860 | City of Potosi.
| At Highway P, approximately 9,700 feet above confluence with Bates Creek | None | *922
* National Geodetic Vertical Datum 1929.
ADDRESSES
City of Potosi:
Maps are available for inspection at the Community Map Repository, 121 E. High Street, Potosi, MO.
Send comments to The Honorable Wayne Maulgen, Mayor of the City of Potosi, 121 E. High Street, Potosi, MO 63664.
Osage County, Oklahoma and Incorporated Areas
Bird Creek | Approximately 250 feet from confluence of Bird Creek and Mud Creek | *823 | +818 | Osage County (Uninc. Areas), City of Pawhuska, City of Barnsdall, Town Avant
| Approximately 1,700 feet downstream from confluence w/ UT1 to Bird Creek | *642 | +645
* National Geodetic Vertical Datum.
+North American Vertical Datum, OK.
ADDRESSES
Osage County:
Maps are available for inspection at 628 Kihekah, Pawhuska 74056.
Send comments to The Honorable Scott Hill, County Commissioner, 628 Kihekah, Pawhuska, OK 74056.
Town of Avant:
Maps are available for inspection at City Hall: 230 W. McCoy Lane, Avant, OK 74001.
Send comments to The Honorable Curtis Bray, Major of the Town of Avant, 230 W. McCoy Lane, Avant, OK 74001.
City of Barnsdall:
Maps are available for inspection at 409 W. Main, Barnsdall, OK 74001.
Send comments to The Honorable Rick Parker, Mayor of the City of Barnsdall, 409 W. Main, Barnsdall, OK 74002.
City of Pawhuska:
Maps are available for inspection at 118 W. Main, Pawhuska, OK 74056.
Send comments to The Honorable Mark Buchanan, Mayor of the City of Pawhuska, 118 West Main, OK 74056.
Chester County, Pennsylvania and Incorporated Areas
Beaver Creek | Approximately at the Beaver Creek Dam | +479 | +503 | Township of East Brandywine and Township of West Brandywine Township of East Goshen.
| Approximately 3,500 feet upstream from the Beaver Creek Dam | None | +503
Boot Road Run | Approximately at Springton Lane Road | +418 | +418
| Approximately 100 feet upstream of Greenhill Road | None | +450
Valley Creek | Approximately 1,750 feet upstream from the confluence of Valley Creek and East Branch Octoraro Creek | None | +444 | Township of West Sadsbury.
| Approximately 800 feet upstream from the confluence of Valley Creek and East Branch Octoraro Creek | None | +444
East Branch Octoraro Creek | Approximately 1,550 feet upstream from the confluence of Valley Creek and East Branch Octoraro Creek | None | +444 | Township of West Sadsbury.
| Approximately 800 feet upstream from the confluence of Valley Creek and East Branch Octoraro | None | +444
Beaver Creek | Approximately at the Beaver Creek Dam | +479 | +503 | Township of East Brandywine and Township of West Brandywine.
| Approximately 3,500 feet upstream from the Beaver Creek Dam | None | +503
Boot Road Run | Approximately at Springton Lane | +418 | +418 | Township of East Goshen.
| Approximately 100 feet upstream of Greenhill Road | None | +450
East Branch Octoraro Creek | Approximately 1,550 feet upstream from the confluence of Valley Creek and East Branch Octoraro Creek | None | +444 | Township of West Sadsbury.
| Approximately 800 feet upstream from the confluence of Valley Creek and East Branch Octoraro | None | +444
Hibernia Dam | Approximately at the Hibernia Dam | None | +588 | Township of West Caln.
| Approximately 75 feet upstream from Martins Corner Road | None | +612
Valley Creek | Approximately 1,750 feet upstream from the confluence of Valley Creek and East Branch Octoraro Creek | None | +444 | Township of West Sadsbury.
| Approximately 800 feet upstream from the confluence of Valley Creek and East Branch Octoraro Creek | None | +444
+North American Vertical Datum 1988.
ADDRESSES
Township of East Brandywine:
Maps are available for inspection at 110 Hopewell Road, Suite 2, Downingtown, Pennsylvania 19335.
Township of West Brandywine:
Maps are available for inspection at West Brandywine Township Building, 198 Lafayette Road, Coatesville, Pennsylvania 19320.
Send comments to The Honorable Carl S. Lindborg, Chairperson of Board of Supervisors, 198 Lafayette Road, Coatesville, Pennsylvania 19320.
Township of East Goshen:
Maps are available for inspection at East Goshen Town Hall, 1580 Paoli Pike, West Chester, Pennsylvania 19380.
Send comments to The Honorable Joseph McDonogh, Chairman of Board of Supervisors, 1580 Paoli Pike, West Chester, Pennsylvania 19380.
Township of West Caln:
Maps are available for inspection at West Caln Township Building, 721 W. Kings Highway, Wagontown, PA 19736.
Send comments to The Honorable Paul E. Pfitzenmeyer, Chairman of Board of Supervisors, 721 W. Kings Highway, Wagontown, PA 19736.
Township of West Sadsbury:
Maps are available for inspection at West Sadsbury Township Municipal Building, 6400 N. Moscow Road, Parkesburg, Pennsylvania 19365.
Send comments to The Honorable James Landis, Chairperson of Board of Supervisors, 6400 N. Moscow Road, Parkesburg, Pennsylvania 19365.
¹ The existing elevation data included on the effective FIRM is printed in the elevation datum of the National Geodetic Vertical Datum of 1929 (NGVD29). In order to convert this printed elevation data from the NGVD29 datum to the NAVD88 datum, please add 0.10 feet.

(Catalog of Federal Domestic Assistance No. 83.100, “Flood Insurance.”)

Dated: March 20, 2006.
David I. Maurstad,
Acting Director, Mitigation Division, Federal Emergency Management Agency, Department of Homeland Security.

[FR Doc. E6-4358 Filed 3-24-06; 8:45 am]

BILLING CODE 9110-12-P